DEPARTMENT OF THE INTERIOR

National Park Service

[NPS-WASO-NAGPRA-NPS0036644; PPWOCRADN0-PCU00RP14.R50000]

Notice of Inventory Completion: University of Nevada, Las Vegas, Las Vegas, NV

AGENCY: National Park Service, Interior.

ACTION: Notice.

SUMMARY: In accordance with the Native American Graves Protection and Repatriation Act (NAGPRA), the University of Nevada, Las Vegas has completed an inventory of human remains and associated funerary objects and has determined that there is no cultural affiliation between the human remains and associated funerary objects and any Indian Tribe. The human remains and associated funerary objects were removed from an unknown county or counties in California.

DATES: Disposition of the human remains and associated funerary objects in this notice may occur on or after October 30, 2023.

ADDRESSES: Dr. Daniel Benyshek, University of Nevada, Las Vegas, 4505 S Maryland Parkway Las Vegas, NV 89154, telephone (702) 895-2070, email Daniel.Benyshek@unlv.edu.

SUPPLEMENTARY INFORMATION: This notice is published as part of the National Park Service's administrative responsibilities under NAGPRA. The determinations in this notice are the sole responsibility of the University of Nevada, Las Vegas. The National Park Service is not responsible for the determinations in this notice. Additional information on the determinations in this notice, including the results of consultation, can be found in the inventory or related records held by the University of Nevada, Las Vegas.

Description

Human remains representing, at minimum, four individuals were removed from an unknown county or counties in California (Accession #s AHUR 116A (Unknown Site), AHUR 116B (Unknown Site), AHUR 117 (Unknown Site), AHUR 118A (“Arroyo Rockshelter Site”)). While the ancestral remains of one of these individuals are attributed to a named site, we are unable to identify this site and, consequently, we are unable to identify the county or counties from which the human remains were removed. The 10 associated funerary objects are four moccasins (two pairs), one lot consisting of faunal bones, one lot consisting of pottery sherds, an Elko side-notched point, a Parowan point, one lot consisting of stone flakes, and one lot consisting of shells.

Aboriginal Land

The human remains and associated funerary objects in this notice were removed from a known geographic location (i.e., the State of California). This location is the aboriginal land of one or more Indian Tribes. The following information was used to identify the aboriginal land: a final judgment of the Indian Claims Commission.

Determinations

Pursuant to NAGPRA and its implementing regulations, and after consultation with the appropriate Indian Tribes, the University of Nevada, Las Vegas has determined that:

• The human remains described in this notice represent the physical remains of four individuals of Native American ancestry.

• The 10 objects described in this notice are reasonably believed to have been placed with or near individual human remains at the time of death or later as part of the death rite or ceremony.

• No relationship of shared group identity can be reasonably traced between the human remains and associated funerary objects and any Indian Tribe.

• The human remains and associated funerary objects described in this notice were removed from the aboriginal land of the Absentee-Shawnee Tribe of Indians of Oklahoma; Agua Caliente Band of Cahuilla Indians of the Agua Caliente Indian Reservation, California; Alturas Indian Rancheria, California; Bear River Band of the Rohnerville Rancheria, California; Berry Creek Rancheria of Maidu Indians of California; Big Sandy Rancheria of Western Mono Indians of California; Bishop Paiute Tribe; Bridgeport Indian Colony; Buena Vista Rancheria of Me-Wuk Indians of California; Cabazon Band of Cahuilla Indians (Previously listed as Cabazon Band of Mission Indians, California); Cachil DeHe Band of Wintun Indians of the Colusa Indian Community of the Colusa Rancheria, California; Cahto Tribe of the Laytonville Rancheria; Cahuilla Band of Indians; California Valley Miwok Tribe, California; Campo Band of Diegueno Mission Indians of the Campo Indian Reservation, California; Captain Grande Band of Diegueno Mission Indians of California (Barona Group of Captain Grande Band of Mission Indians of the Barona Reservation, California; Viejas (Baron Long) Group of Captain Grande Band of Mission Indians of the Viejas Reservation, California); Cedarville Rancheria, California; Chemehuevi Indian Tribe of the Chemehuevi Reservation, California; Cher-Ae Heights Indian Community of the Trinidad Rancheria, California; Chicken Ranch Rancheria of Me-Wuk Indians of California; Cloverdale Rancheria of Pomo Indians of California; Cold Springs Rancheria of Mono Indians of California; Colorado River Indian Tribes of the Colorado River Indian Reservation, Arizona and California; Confederated Tribes of Siletz Indians of Oregon; Coyote Valley Band of Pomo Indians of California; Dry Creek Rancheria Band of Pomo Indians, California; Eastern Shoshone Tribe of the Wind River Reservation, Wyoming; Elem Indian Colony of Pomo Indians of the Sulphur Bank Rancheria, California; Elk Valley Rancheria, California; Enterprise Rancheria of Maidu Indians of California; Ewiiaapaayp Band of Kumeyaay Indians, California; Federated Indians of Graton Rancheria, California; Fort Bidwell Indian Community of the Fort Bidwell Reservation of California; Fort Independence Indian Community of Paiute Indians of the Fort Independence Reservation, California; Fort McDermitt Paiute and Shoshone Tribes of the Fort McDermitt Indian Reservation, Nevada and Oregon; Fort McDowell Yavapai Nation, Arizona; Fort Mojave Indian Tribe of Arizona, California & Nevada; Grindstone Indian Rancheria of Wintun-Wailaki Indians of California; Hoopa Valley Tribe, California; Hopland Band of Pomo Indians, California; Iipay Nation of Santa Ysabel, California; Inaja Band of Diegueno Mission Indians of the Inaja and Cosmit Reservation, California; Ione Band of Miwok Indians of California; Jackson Band of Miwuk Indians; Jamul Indian Village of California; Kaibab Band of Paiute Indians of the Kaibab Indian Reservation, Arizona; Karuk Tribe; Kashia Band of Pomo Indians of the Stewarts Point Rancheria, California; Klamath Tribes; Kletsel Dehe Wintun Nation of the Cortina Rancheria (Previously listed as Kletsel Dehe Band of Wintun Indians); Koi Nation of Northern California; La Jolla Band of Luiseno Indians, California; La Posta Band of Diegueno Mission Indians of the La Posta Indian Reservation, California; Las Vegas Tribe of Paiute Indians of the Las Vegas Indian Colony, Nevada; Lone Pine Paiute-Shoshone Tribe; Los Coyotes Band of Cahuilla and Cupeno Indians, California; Lytton Rancheria of California; Manchester Band of Pomo Indians of the Manchester Rancheria, California; Manzanita Band of Diegueno Mission Indians of the Manzanita Reservation, California; Mechoopda Indian Tribe of Chico Rancheria, California; Mesa Grande Band of Diegueno Mission Indians of the Mesa Grande Reservation, California; Middletown Rancheria of Pomo Indians of California; Moapa Band of Paiute Indians of the Moapa River Indian Reservation, Nevada; Mooretown Rancheria of Maidu Indians of California; Morongo Band of Mission Indians, California; Northfork Rancheria of Mono Indians of California; Paiute Indian Tribe of Utah (Cedar Band, Kanosh Band, Koosharem Band, Indian Peaks Band of Paiutes, and Shivwits Band of Paiutes); Paiute-Shoshone Tribe of the Fallon Reservation and Colony, Nevada; Pala Band of Mission Indians; Paskenta Band of Nomlaki Indians of California; Pauma Band of Luiseno Mission Indians of the Pauma & Yuima Reservation, California; Pechanga Band of Indians (Previously listed as Pechanga Band of Luiseno Mission Indians of the Pechanga Reservation, California); Picayune Rancheria of Chukchansi Indians of California; Pinoleville Pomo Nation, California; Pit River Tribe, California (Includes XL Ranch, Big Bend, Likely, Lookout, Montgomery Creek, and Roaring Creek Rancherias); Potter Valley Tribe, California; Pyramid Lake Paiute Tribe of the Pyramid Lake Reservation, Nevada; Quartz Valley Indian Community of the Quartz Valley Reservation of California; Quechan Tribe of the Fort Yuma Indian Reservation, California and Arizona; Ramona Band of Cahuilla, California; Redding Rancheria, California; Redwood Valley or Little River Band of Pomo Indians of the Redwood Valley Rancheria, California; Reno-Sparks Indian Colony, Nevada; Resighini Rancheria, California; Rincon Band of Luiseno Indians (Previously listed as Rincon Band of Luiseno Mission Indians of Rincon Reservation, California); Robinson Rancheria; Round Valley Indian Tribes, Round Valley Reservation, California; (California), San Pasqual Band of Diegueno Mission Indians of California; Santa Rosa Band of Cahuilla Indians, California; Santa Rosa Indian Community of the Santa Rosa Rancheria, California; Santa Ynez Band of Chumash Mission Indians of the Santa Ynez Reservation, California; Scotts Valley Band of Pomo Indians of California; Soboba Band of Luiseno Indians, California; Susanville Indian Rancheria, California; Sycuan Band of the Kumeyaay Nation; Table Mountain Rancheria; Tejon Indian Tribe; Te-Moak Tribe of Western Shoshone Indians of Nevada (Four constituent bands: Battle Mountain Band; Elko Band; South Fork Band; and Wells Band); Timbisha Shoshone Tribe; Tolowa Dee-ni' Nation; Torres Martinez Desert Cahuilla Indians, California; Tule River Indian Tribe of the Tule River Reservation, California; Tuolumne Band of Me-Wuk Indians of the Tuolumne Rancheria of California; Twenty-Nine Palms Band of Mission Indians of California; United Auburn Indian Community of the Auburn Rancheria of California; Utu Utu Gwaitu Paiute Tribe of the Benton Paiute Reservation, California; Walker River Paiute Tribe of the Walker River Reservation, Nevada; Washoe Tribe of Nevada & California (Carson Colony, Dresslerville Colony, Woodfords Community, Stewart Community, & Washoe Ranches); Wilton Rancheria, California; Wiyot Tribe, California; Yerington Paiute Tribe of the Yerington Colony & Campbell Ranch, Nevada; Yocha Dehe Wintun Nation, California; Yuhaaviatam of San Manuel Nation (Previously listed as San Manuel Band of Mission Indians, California); and the Yurok Tribe of the Yurok Reservation, California.

Requests for Disposition

Written requests for disposition of the human remains and associated funerary objects in this notice must be sent to the Responsible Official identified in ADDRESSES. Requests for disposition may be submitted by:

1. Any one or more of the Indian Tribes identified in this notice.

2. Any lineal descendant, Indian Tribe, or Native Hawaiian organization not identified in this notice who shows, by a preponderance of the evidence, that the requestor is a lineal descendant or a culturally affiliated Indian Tribe or Native Hawaiian organization, or who shows that the requestor is an aboriginal land Indian Tribe.

Disposition of the human remains and associated funerary objects described in this notice to a requestor may occur on or after October 30, 2023. If competing requests for disposition are received, the University of Nevada, Las Vegas must determine the most appropriate requestor prior to disposition. Requests for joint disposition of the human remains and associated funerary objects are considered a single request and not competing requests. The University of Nevada, Las Vegas is responsible for sending a copy of this notice to the Indian Tribes identified in this notice.

Authority: Native American Graves Protection and Repatriation Act, 25 U.S.C. 3003, and the implementing regulations, 43 CFR 10.9 and § 10.11.

Dated: September 20, 2023.
Melanie O'Brien,
Manager, National NAGPRA Program.

[FR Doc. 2023-21242 Filed 9-27-23; 8:45 am]

BILLING CODE P